DEPARTMENT OF HEALTH AND HUMAN SERVICES

National Institutes of Health

Submission for OMB Review; Comment Request; The Framingham Study

Summary: Under the provisions of Section 3507(a)(1)(D) of the Paperwork Reduction Act of 1995, the National Heart, Lung, and Blood Institute (NHLBI), the National Institutes of Health (NIH) has submitted to the Office of Management and Budget (OMB) a request for review and approval the information collection listed below. This proposed information collection was previously published in the Federal Register on November 6, 2007, page 62659, and allowed 60 days for public comment. Two comments were received. The purpose of this notice is to allow an additional 30 days for public comment. The National Institutes of Health may not conduct or sponsor, and the respondent is not required to respond to, any information collection that has been extended, revised, or implemented on or after October 1, 1995, unless it displays a currently valid OMB control number.

Proposed Collection: Title: The Framingham Study. Type of Information Request: Revision (OMB No. 0925-0216). Need and Use of Information Collection: The Framingham Study will conduct examinations and morbidity and mortality follow-up in original, offspring, and third generation participants for the purpose of studying the determinants of cardiovascular disease. Frequency of response: Both individuals and physicians will be contacted annually. One response per contact per year is anticipated from physicians and informants; participants will average 1.49 responses to various components within each annual contact. Affected public: Individuals or households; businesses or other for profit; small businesses or organizations. Types of Respondents: Adult men and women; doctors and staff of hospitals and nursing homes. The annual reporting burden is as follows: Estimated Number of Respondents: 5,569 and Estimated Total Annual Burden Hours Requested: 5,794.

There are no capital, operating, or maintenance costs to report.

Type of respondents | Number of respondents | Average time per response | Annual hour burden
Individuals (Participants and Informants) | 4719 | 1.107 | 5224
Physicians | 850 | 0.671 | 570
Totals | 5569 |  | 5794

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Dr. Paul Sorlie, Epidemiology Branch, Division of Prevention and Population Sciences, NHLBI, NIH, II Rockledge Centre, 6701 Rockledge Drive, Suite 10210, MSC # 7936, Bethesda, MD, 20892-7936, or call 301-435-0456 (non-toll-free number), or e-mail your request, including your address to: SorlieP@NHLBI.NIH.GOV.

Comments Due Date: Comments regarding this information collection are best assured of having their full effect if received within 30 days of the date of this publication.

Dated: January 8, 2008.
Mike Lauer,
Director, Division of Prevention and Population Sciences, NHLBI, National Institutes of Health.
Dated: January 8, 2008.
Suzanne Freeman,
OMB Clearance Officer, NHLBI, National Institutes of Health.

[FR Doc. E8-478 Filed 1-18-08; 8:45 am]

BILLING CODE 4140-01-P